DEPARTMENT OF TRANSPORTATION

Federal Aviation Administration

14 CFR Part 39

[Docket No. FAA-2010-0489; Directorate Identifier 2009-SW-78-AD; Amendment 39-16294; AD 2010-10-15]

RIN 2120-AA64

Airworthiness Directives; Eurocopter France (ECF) Model AS332L1 and AS332L2 Helicopters

AGENCY: Federal Aviation Administration (FAA), Department of Transportation (DOT).

ACTION: Final rule; request for comments.

SUMMARY: We are adopting a new airworthiness directive (AD) for the specified ECF model helicopters. This AD results from a mandatory continuing airworthiness information (MCAI) AD issued by the European Aviation Safety Agency (EASA), which is the Technical Agent for the Member States of the European Community. The MCAI AD states that with certain pilot and copilot seats in the rear high position and seat backrest fully tilted the seat shoulder harness could become jammed between the seat and bulkhead. This condition, if not corrected, could result in the shoulder harness binding and causing the inertial reel to malfunction and no longer retain the flight crew member in the seat in the event of an emergency or hard landing.

DATES: This AD becomes effective on June 7, 2010.

The incorporation by reference of certain publications is approved by the Director of the Federal Register as of June 7, 2010.

We must receive comments on this AD by July 20, 2010.

ADDRESSES: You may send comments by any of the following methods:

• Federal eRulemaking Portal: Go to http://www.regulations.gov. Follow the instructions for submitting your comments electronically.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from American Eurocopter Corporation, 2701 Forum Drive, Grand Prairie, TX 75053-4005, telephone (800) 232-0323, fax (972) 641-3710, or at http://www.eurocopter.com.

Examining the Docket: You may examine the AD docket on the Internet at http://www.regulations.gov or in person at the Docket Operations office between 9 a.m. and 5 p.m., Monday through Friday, except Federal holidays. The AD docket contains this AD, the economic evaluation, any comments received, and other information. The street address for the Docket Operations office (telephone (800) 647-5527) is stated in the ADDRESSES section of this AD. Comments will be available in the AD docket shortly after receipt.

FOR FURTHER INFORMATION CONTACT: DOT/FAA Southwest Region, Gary Roach, ASW-111, Aviation Safety Engineer, Rotorcraft Directorate, Regulations and Guidance Group, 2601 Meacham Blvd., Fort Worth, Texas 76137, telephone (817) 222-5130, fax (817) 222-5961.

SUPPLEMENTARY INFORMATION:

Discussion

EASA, which is the Technical Agent for the Member States of the European Community, has issued AD No. 2009-0227-E, dated October 22, 2009, to correct an unsafe condition for the specified Eurocopter model helicopters.

The MCAI AD states that certain pilot and copilot customized seats that have rails with the rear stop moved aft in the full backward position interfere with bulkhead X1715. Tests revealed that when an affected seat is in the rear high position and the seat backrest is fully tilted, there is a risk of the shoulder harness jamming between the seat and bulkhead X1715, which may prevent the inertial reel from reeling the shoulder harness in. This condition, if not corrected, could result in the shoulder harness binding and causing the inertial reel to malfunction and no longer retain the flight crew member in the seat in the event of an emergency or hard landing.

You may obtain further information by examining the MCAI AD and any related service information in the AD docket.

Related Service Information

ECF has issued one Emergency Alert Service Bulletin (EASB) with two different numbers, both dated October 19, 2009. EASB No. 25.02.20 is for the Model AS332L1 and L2, and No. 25.01.35 is for the non-FAA type certificated Model AS532U2 military helicopters. The EASB specifies relocating the rear stops of the pilot and copilot seats because of potential interference between the seat shoulder harness and bulkhead X1715. The actions described in the MCAI AD are intended to correct the same unsafe condition as that identified in the service information.

FAA's Evaluation and Unsafe Condition Determination

These helicopters have been approved by the aviation authority of France and are approved for operation in the United States. Pursuant to our bilateral agreement with France, EASA, their technical representative, has notified us of the unsafe condition described in the MCAI AD. We are issuing this AD because we evaluated all information provided by EASA and determined the unsafe condition exists and is likely to exist or develop on other helicopters of these same type designs.

Differences Between This AD and the MCAI AD

We refer to flight hours as hours time-in-service.

Costs of Compliance

We estimate that this AD will affect about 3 helicopters of U.S. registry. We also estimate that it will take about l/2 work-hour per helicopter to modify both the seat rails. The average labor rate is $85 per work-hour with negligible cost for parts. Based on these figures, we estimate the cost of this AD on U.S. operators will be $128 for the entire fleet.

FAA's Determination of the Effective Date

An unsafe condition exists that requires the immediate adoption of this AD. We find that the risk to the flying public justifies waiving notice and comment prior to adoption of this rule because of the short time frame required to modify the seat rails to prevent a seat shoulder harness jamming and resulting in further injury to a crewmember in an emergency or hard landing. Therefore, we have determined that notice and opportunity for public comment before issuing this AD are impracticable and that good cause exists for making this amendment effective in fewer than 30 days.

Comments Invited

This AD is a final rule that involves requirements affecting flight safety, and we did not precede it by notice and opportunity for public comment. However, we invite you to send us any written data, views, or arguments concerning this AD. Send your comments to an address listed under the ADDRESSES section of this AD. Include “Docket No. FAA-2010-0489; Directorate Identifier 2009-SW-78-AD” at the beginning of your comments. We specifically invite comments on the overall regulatory, economic, environmental, and energy aspects of this AD. We will consider all comments received by the closing date and may amend this AD because of those comments.

We will post all comments we receive, without change, to http://www.regulations.gov including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-10-15 Eurocopter France: Amendment 39-16294. Docket No. FAA-2010-0489; Directorate Identifier 2009-SW-78-AD.

Effective Date

(a) This airworthiness directive (AD) becomes effective on June 7, 2010.

Other Affected ADs

(b) None.

Applicability

(c) This AD applies to Model AS332L1 and AS332L2 helicopters, certificated in any category, with the customized “rails with the rear stop moved aft” rail assemblies, part number (P/N) 332P76-9012-02 or P/N 332P76-9012-03, installed, but without modification (MOD) 332V080210.00.

Reason

(d) The mandatory continuing airworthiness information (MCAI) AD states that with certain pilot and copilot seats in the rear high position and seat backrest fully tilted the seat shoulder harness could become jammed between the seat and bulkhead X1715 adversely affecting the strap tension and potentially disabling the proper function of the inertial reel. This condition, if not corrected could result in the shoulder harness no longer retaining the flight crew member in the seat in the event of an emergency or hard landing.

Actions and Compliance

(e) Within 15 hours time-in-service (TIS), modify the pilot and copilot seats by relocating the rail rear stops to the position depicted in Figure 2, “without the `rail with the rear stop moved aft' customization” or “Post-Mod 332V080210.00.” Do the modification by following the Operational Procedure, of the Accomplishment Instructions, paragraph 2.B.1., of Eurocopter Emergency Alert Service Bulletin (EASB) No. 25.02.20, dated October 19, 2009. After modifying the position of the rear stop, identify the modification (MOD) using indelible ink and marking “MOD332V080210.00” on the left rail at the rear stop.

Note: The one Eurocopter EASB contains two different service bulletin numbers (Nos. 25.02.20 and 25.01.35) applicable to two different Eurocopter model helicopters. EASB No. 25.02.20 relates to Eurocopter Model AS332L1 and L2 helicopters. EASB No. 25.01.35 relates to Eurocopter Model AS532U2 military helicopters that are not type certificated in the United States.

(f) After the effective date of this AD, do not install a pilot or copilot left seat rail, P/N 332P76-9012-02 or P/N 332P76-9012-03, on a helicopter unless it has been modified and reidentified by following paragraph (e) of this AD.

Differences Between This AD and the MCAI AD

(g) We refer to flight hours as hours TIS.

Other Information

(h) Alternative Methods of Compliance (AMOCs): The Manager, Safety Management Group, ATTN: DOT/FAA Southwest Region, Gary Roach, ASW-111, Aviation Safety Engineer, Rotorcraft Directorate, Regulations and Guidance Group, 2601 Meacham Blvd., Fort Worth, Texas 76137, telephone (817) 222-5130, fax (817) 222-5961, has the authority to approve AMOCs for this AD, if requested, using the procedures found in 14 CFR 39.19.

Related Information

(i) The European Aviation Safety Agency MCAI AD No. 2009-0227-E, dated October 22, 2009, contains related information.

Joint Aircraft System/Component (JASC) Code

(j) The JASC Code is 5347: Seat/Cargo Attach Fittings.

Material Incorporated by Reference

(k) You must use the specified portions of Eurocopter Emergency Alert Service Bulletin No. 25.02.20, dated October 19, 2009, to do the actions required.

(1) The Director of the Federal Register approved the incorporation by reference of this service information under 5 U.S.C. 552(a) and 1 CFR part 51.

(2) For service information identified in this AD, contact American Eurocopter Corporation, 2701 Forum Drive, Grand Prairie, TX 75053-4005, telephone (800) 232-0323, fax (972) 641-3710, or at http://www.eurocopter.com.

(3) You may review copies at the FAA, Office of the Regional Counsel, Southwest Region, 2601 Meacham Blvd, Fort Worth, TX 76137; or at the National Archives and Records Administration (NARA). For information on the availability of this material at NARA, call (202) 741-6030, or go to: http://www.archives.gov/federal-register/cfr/ibr-locations.html.

Issued in Fort Worth, Texas, on April 29, 2010.
Mark R. Schilling,
Acting Manager, Rotorcraft Directorate, Aircraft Certification Service.

[FR Doc. 2010-11420 Filed 5-20-10; 8:45 am]

BILLING CODE 4910-13-P